DEPARTMENT OF AGRICULTURE

Forest Service

Notice of New Fee Site; Federal Lands Recreation Enhancement Act, (Title VIII, Pub. L. 108-447)

AGENCY: Rogue River—Siskiyou National Forest, USDA Forest Service.

ACTION: Notice of New Fee Site.

SUMMARY: The Wild Rivers Ranger District of the Rogue River—Siskiyou National Forest proposes to begin charging a $5 day use fee per vehicle at the Illinois River Scenic Recreation area. The District proposes to charge a $10 fee for the overnight use of Store Gulch Campground. Implementation of these news fees is proposed to begin in 2008. Use of the developed recreation facilities on the Illinois River of the Rogue River-Siskiyou National Forest have shown that people appreciate and enjoy the availability of the recreation experience. Funds generated through recreation fees will be used for the continued operation and maintenance of the Illinois River Scenic Recreation area along with other improvements including law enforcement and sanitation.

DATES: The fees would be charged from May 1 to September 30.

ADDRESSES: Forest Supervisor, Rogue River-Siskiyou National Forest, 333 W. 8th St./ P.O. Box 520, Medford, Oregon 97501-0209.

FOR FURTHER INFORMATION CONTACT: Jerry Sirski, 541-899-3815.

SUPPLEMENTARY INFORMATION: The Federal Recreation Lands Enhancement Act (Title VII, Pub. L. 108-447) directed the Secretary of Agriculture to publish a six month advance notice in the Federal Register whenever new recreation fee areas are established.

These facilities are in close proximity to the Wild, Scenic, and Recreational segments of the Illinois River. This area offers significant recreational viewing opportunities, fishing experiences, and is rich in historical and cultural importance. A market analysis indicates that the $5/per day single vehicle fee is both reasonable and acceptable for this sort of unique recreation experience.

Dated: January 9, 2008.
Scott Conroy,
Rogue River-Siskiyou National Forest Supervisor.

[FR Doc. E8-820 Filed 1-18-08; 8:45 am]

BILLING CODE 3410-11-P